DEPARTMENT OF THE INTERIOR

National Park Service

[NPS-WASO-CR-NHAP-24544; PPWOCRADI0, PCU00RP14.R50000; OMB Control No. 1024-NEW]

Agency Information Collection Activities; National Heritage Areas Program

AGENCY: National Park Service, Interior.

ACTION: Notice of Information Request; request for comment.

SUMMARY: In accordance with the Paperwork Reduction Act of 1995, the National Park Service is proposing a new information collection for the National Heritage Areas Program. The National Park Service will ask the Office of Management and Budget (OMB) to approve the information collection request (ICR) described below.

DATES: Interested persons are invited to submit comments on or before January 22, 2018.

ADDRESSES: Send your comments on the Information Collection Request (ICR) by mail to Tim Goddard, Information Collection Clearance Officer, National Park Service, 12201 Sunrise Valley Drive, MS-242, Reston, VA 20192 (mail); or by email to tim_goddard@nps.gov. Please reference OMB Control Number 1024-NEW in the subject line of your comments.

FOR FURTHER INFORMATION CONTACT: To request additional information about this ICR, contact Martha Raymond, National Coordinator, National Heritage Areas Program, National Park Service, by email at martha_raymond@nps.gov or by telephone at 202-354-2222.

SUPPLEMENTARY INFORMATION: We, the National Park Service, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the National Park Service; (2) will this information be processed and used in a timely manner; (3) is the estimate of burden accurate; (4) how might the National Park Service enhance the quality, utility, and clarity of the information to be collected; and (5) how might the National Park Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

An agency may not conduct or sponsor and a person is not required to respond to a collection of information unless it displays a currently valid OMB control number.

Title of Collection: National Heritage Areas Program Annual Reporting Forms.

OMB Control Number: 1024-NEW.

Form Number: NPS 10-320; NPS 10-321.

Type of Review: New.

Respondents/Affected Public: National Heritage Area Coordinating Entities: Not-for-profit entities; Federal Commissions; Institutions of Higher Education; State and local governments.

Total Estimated Number of Annual Responses: 98.

Total Estimated Number of Annual Burden Hours: ~2,500 hours.

Total Estimated Number of Annual Respondents: 49 (49 total National Heritage Area Coordinating Entities).

Estimated Completion Time per Response: Varies from 12 hours to 40 hours, depending on type of respondent and which form is being completed.

Respondent's Obligation: Required to Obtain or Retain a Benefit.

Frequency of Collection: Annually.

Total Estimated Annual Nonhour Burden Cost: None.

Abstract: National Heritage Areas (NHAs) are designated by Congress as places where natural, cultural, and historic resources combine to form a cohesive, nationally important landscape. Each National Heritage Area is governed by separate authorizing legislation and operates under provisions unique to its resources and desired goals. Through their resources, NHAs tell nationally important stories that celebrate our nation's diverse heritage. The NHA program, which currently includes 49 heritage areas, is administered by National Park Service (NPS) coordinators in Washington, DC and six regional offices—Anchorage, San Francisco, Denver, Omaha, Philadelphia and Atlanta—as well as local park unit staff.

The NPS intends to track the progress of each heritage area on implementing its management plan and meeting performance goals. In order to reduce paperwork burden on the public, we are proposing the below listed new forms to collect the information needed to assist us in monitoring the progress of each heritage area:

• Annual Program Report—Part I Funding Report. The information collected on this form is used by the NPS NHA Program Office for allocating funds to heritage area management or coordinating entities (coordinating entities) and preparing the annual NPS Budget Justification and responses to directives from Congress. The information gathered on this form relates to funding from the Heritage Partnership Program (HPP) fund; required non-federal match sources; organizational sustainability planning; and Heritage Area accomplishments and challenges in using the HPP funds.

• Annual Program Report—Part II Progress Report. The information collected through this form will be used by the NPS NHA Program Office and regional program offices to track each heritage area management or coordinating entity's (coordinating entity) progress on management plan implementation. The progress measures outlined on this form capture information about the diverse heritage area activities and approaches to these activities (process measures), direct products or services offered (output measures), and the results of the products or services (outcome measures). The NPS will use the responses to the questions reported here in annual program reports and publications and to inform individual heritage area evaluations.

The authorities for this action come from the Paperwork Reduction Act of 1995 (44 U.S.C. 3501, et seq.), the Historic Sites Act of 1935, as amended (54 U.S.C. Ch. 3201), and the individual pieces of legislation and associated amendments that enable the National Park Service, on behalf of the Secretary of the Interior, to provide federal financial, technical, and other assistance for the preservation of natural, cultural, historic, and scenic resources. Each National Heritage Area is designated by its own authorizing legislation.

Tim Goddard,
Information Collection Clearance Officer, National Park Service.

[FR Doc. 2017-25238 Filed 11-21-17; 8:45 am]

BILLING CODE 4312-52-P